DEPARTMENT OF LABOR

Employment and Training Administration

[TA-W-54,434]

Gale Group, a Division of The Thomson Corp., Belmont, CA; Dismissal of Application for Reconsideration

Pursuant to 29 CFR 90.18(C) an application for administrative reconsideration was filed with the Director of the Division of Trade Adjustment Assistance for workers at Gale Group, a division of The Thomson Corporation, Belmont, California. The application contained no new substantial information which would bear importantly on the Department's determination. Therefore, dismissal of the application was issued.

TA-W-54,434; Gale Group, A division of The Thomson Corporation, Belmont, California (July 13, 2004).

Signed in Washington, DC, this 16th day of July, 2004.
Timothy Sullivan,
Director, Division of Trade Adjustment Assistance.

[FR Doc. 04-16770 Filed 7-22-04; 8:45 am]

BILLING CODE 4510-30-P